DEPARTMENT OF COMMERCE

International Trade Administration

[A-570-008]

Calcium Hypochlorite From the People's Republic of China: Antidumping Duty Order

AGENCY: Enforcement and Compliance, International Trade Administration, Department of Commerce.

SUMMARY: Based on affirmative final determinations by the Department of Commerce (the “Department”) and the International Trade Commission (“ITC”), the Department is issuing an antidumping duty order on calcium hypochlorite from the People's Republic of China (“PRC”).

DATES: Effective Date: January 30, 2015.

FOR FURTHER INFORMATION CONTACT: Katie Marksberry, AD/CVD Operations, Office V, Enforcement and Compliance, International Trade Administration, U.S. Department of Commerce, 14th Street and Constitution Avenue NW., Washington, DC 20230; telephone: (202) 482-7906.

SUPPLEMENTARY INFORMATION:

Background

On December 15, 2014, the Department published the final determination of sales at less than fair value in the antidumping duty investigation of calcium hypochlorite from the PRC.¹ On January 21, 2015, the ITC notified the Department of its final determination pursuant to section 735(b)(1)(A)(i) of the Tariff Act of 1930, as amended (“the Act”), that an industry in the United States is materially injured by reason of imports of calcium hypochlorite from the PRC.²

¹ See Calcium Hypochlorite From the People's Republic of China: Final Determination of Sales at Less Than Fair Value, 79 FR 74065 (December 15, 2013) (“Final Determination”) and accompanying Issues and Decision Memorandum.

² See Calcium Hypochlorite from China, USITC Investigation Nos. 701-TA-510 and 731-TA-1245 (Final), USITC Publication 4515 (January 2015).

Scope of the Order

The product covered by this investigation is calcium hypochlorite, regardless of form (e.g., powder, tablet (compressed), crystalline (granular), or in liquid solution), whether or not blended with other materials, containing at least 10 percent available chlorine measured by actual weight. The scope also includes bleaching powder and hemibasic calcium hypochlorite.

Calcium hypochlorite has the general chemical formulation Ca(OCl)2, but may also be sold in a more dilute form as bleaching powder with the chemical formulation, Ca(OCl)2.CaCl2.Ca(OH)2.2H2O or hemibasic calcium hypochlorite with the chemical formula of 2Ca(OCl)2.Ca(OH)2 or Ca(OCl)2.0.5Ca(OH)2. Calcium hypochlorite has a Chemical Abstract Service (“CAS”) registry number of 7778-54-3, and a U.S. Environmental Protection Agency (“EPA) Pesticide Code (“PC”) Number of 014701. The subject calcium hypochlorite has an International Maritime Dangerous Goods (“IMDG”) code of Class 5.1 UN 1748, 2880, or 2208 or Class 5.1/8 UN 3485, 3486, or 3487.

Calcium hypochlorite is currently classifiable under the subheading 2828.10.0000 of the Harmonized Tariff Schedule of the United States (“HTSUS”). The subheading covers commercial calcium hypochlorite and other calcium hypochlorite. When tableted or blended with other materials, calcium hypochlorite may be entered under other tariff classifications, such as 3808.94.5000 and 3808.99.9500, which cover disinfectants and similar products. While the HTSUS subheadings, the CAS registry number, the U.S. EPA PC number, and the IMDG codes are provided for convenience and customs purposes, the written description of the scope of this investigation is dispositive.

Antidumping Duty Order

In accordance with sections 735(b)(1)(A)(i) and 735(d) of the Act, the ITC has notified the Department of its final determination in this investigation, in which it found that imports of calcium hypochlorite from the PRC are materially injuring a U.S. industry. Therefore, in accordance with section 735(c)(2) of the Act, we are publishing this antidumping duty order.

As a result of the ITC's final determination, in accordance with section 736(a)(1) of the Act, the Department will direct U.S. Customs and Border Protection (“CBP”) to assess, upon further instruction by the Department, antidumping duties equal to the amount by which the normal value of the merchandise exceeds the export price (or constructed export price) of the merchandise, for all relevant entries of calcium hypochlorite from the PRC. These antidumping duties will be assessed on unliquidated entries from the PRC entered, or withdrawn from warehouse, for consumption on or after July 25, 2014, the date on which the Department published the Preliminary Determination,³ but will not include entries occurring after the expiration of the provisional measures period and before publication of the ITC's final injury determination, as further described below.

³ See Calcium Hypochlorite From the People's Republic of China: Preliminary Determination of Sales at Less Than Fair Value and Postponement of Final Determination, 79 FR 43393 (July 25, 2014) (“Preliminary Determination”).

Continuation of Suspension of Liquidation

In accordance with section 735(c)(1)(B) of the Act, we will instruct CBP to continue to suspend liquidation on entries of subject merchandise from the PRC. We will also instruct CBP to require cash deposits equal to the estimated amount by which the normal value exceeds the U.S. price as indicated in the chart below, adjusted where appropriate for export subsidies and estimated domestic subsidy pass-through.⁴ These instructions suspending liquidation will remain in effect until further notice.

⁴ See sections 772(c)(1)(C) and 777A(f) of the Act, respectively. Unlike in administrative reviews, the Department calculates the adjustment for export subsidies in investigations not in the margin calculation program, but in the cash deposit instructions issued to CBP. See Notice of Final Determination of Sales at Less Than Fair Value, and Negative Determination of Critical Circumstances: Certain Lined Paper Products from India, 71 FR 45012 (August 8, 2006), and accompanying Issues and Decision Memorandum at Comment 1.

Accordingly, effective on the date of publication of the ITC's final affirmative injury determination, CBP will require, at the same time as importers would normally deposit estimated duties on this subject merchandise, a cash deposit equal to the estimated weighted-average antidumping duty margins, adjusted where appropriate for export subsidies and estimated domestic subsidy pass-through, as discussed above.⁵ The “PRC-wide” rate applies to all exporters of subject merchandise not specifically listed.

⁵ See sections 736(a)(3), 772(c)(1)(C) and 777A(f) of the Act.

Provisional Measures

Section 733(d) of the Act states that instructions issued pursuant to an affirmative preliminary determination may not remain in effect for more than four months except where exporters representing a significant proportion of exports of the subject merchandise request the Department to extend that four-month period to no more than six months. At the request of the exporters that account for a significant proportion of exports of calcium hypochlorite from the PRC, we extended the four-month period to no more than six months.⁶ In the underlying investigation, the Department published the Preliminary Determination on July 25, 2014. Therefore, the six-month period beginning on the date of the publication of the Preliminary Determination ended on January 21, 2015. Furthermore, section 737(b) of the Act states that definitive duties are to begin on the date of publication of the ITC's final injury determination.

⁶ See Preliminary Determination, 79 FR 43393, 43394 (July 25, 2014).

Therefore, in accordance with section 733(d) of the Act and our practice, we will instruct CBP to terminate the suspension of liquidation and to liquidate, without regard to antidumping duties, unliquidated entries of calcium hypochlorite from the PRC entered, or withdrawn from warehouse, for consumption after January 21, 2015, the date the provisional measures expired, and through the day preceding the date of publication of the ITC's final injury determination in the Federal Register.

Estimated Weighted-Average Dumping Margin

The weighted-average antidumping duty margin percentage is as follows:

Exporter | Weighted-average margin (percent)
PRC-Wide Entity | 210.52 ⁷

⁷ The following subsidy programs in the final determination of the concurrent countervailing duty investigation are export subsidies: Discounted Loans for Export-Oriented Enterprises (1.06 percent), Export Credits from China's Export-Import Bank (1.06 percent), Export Credit Insurance from China Export and Credit Insurance Corporation (Sinosure) (1.06 percent), Foreign Trade Development Fund (0.55 percent), Famous Brands Program (0.55 percent), Provision of Shipping for LTAR (5.34 percent). Therefore, we have offset the PRC-wide rate of 210.52 percent by the countervailing duty rate attributable to export subsidies (i.e., 9.62 percent). See Calcium Hypochlorite From the People's Republic of China: Final Affirmative Countervailing Duty Determination, 79 FR 74064 (December 15, 2014) and accompanying Issues and Decision Memorandum at 7.

This notice constitutes the antidumping duty order with respect to calcium hypochlorite from the PRC, pursuant to section 736(a) of the Act. Interested parties may contact the Department's Central Records Unit, Room 7043 of the main Commerce building, for copies of an updated list of antidumping duty orders currently in effect.

This order is published in accordance with sections 736(a) of the Act and 19 CFR 351.211(b).

Date: January 26, 2015.
Paul Piquado,
Assistant Secretary, for Enforcement and Compliance.

[FR Doc. 2015-01798 Filed 1-29-15; 8:45 am]

BILLING CODE 3510-DS-P